DEPARTMENT OF LABOR

Employment and Training Administration

[TA-W-60,566]

E*Trade Mortgage Corporation; Including Leased Workers From Manpower and Radian; Coraopolis, PA; Dismissal of Application for Reconsideration

Pursuant to 29 CFR 90.18(c) an application for administrative reconsideration was filed with the Director of the Division of Trade Adjustment Assistance for workers at E*Trade Mortgage Corporation, including leased workers from Manpower and Radian, Coraopolis, Pennsylvania. The application did not contain new information supporting a conclusion that the determination was erroneous, and also did not provide a justification for reconsideration of the determination that was based on either mistaken facts or a misinterpretation of facts or of the law. Therefore, dismissal of the application was issued.

TA-W-60,566; E *Trade Mortgage Corporation Including Leased Workers From Manpower and Radian, Coraopolis, Pennsylvania (March 15, 2007).

Signed at Washington, DC, this 21st day of March 2007.
Linda G. Poole,
Certifying Officer, Division of Trade Adjustment Assistance.

[FR Doc. E7-5846 Filed 3-29-07; 8:45 am]

BILLING CODE 4510-FN-P